INTERNATIONAL TRADE COMMISSION

[Inv. No. 337-TA-491; Inv. No. 337-TA-481 (consolidated) Enforcement Proceeding]

In the Matter of Certain Display Controllers and Products Containing Same and Certain Display Controllers With Upscaling Functionality and Products Containing Same; Notice of Commission Decision Not To Review an Initial Determination of the Administrative Law Judge Terminating the Enforcement Proceeding Based on a Settlement Agreement

AGENCY: U.S. International Trade Commission.

ACTION: Notice.

SUMMARY: Notice is hereby given that the U.S. International Trade Commission has determined not to review the presiding administrative law judge's (“ALJ”) initial determination (“ID”) (Order No. 46) terminating the above-captioned enforcement proceeding based on a settlement agreement.

FOR FURTHER INFORMATION CONTACT: Michael Liberman, Esq., Office of the General Counsel, U.S. International Trade Commission, 500 E Street, SW., Washington, DC 20436, telephone (202) 205-3061. Copies of all nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS) at http://edis.usitc.gov/. Hearing-impaired persons are advised that information on the matter can be obtained by contacting the Commission's TDD terminal on 202-205-1810.

SUPPLEMENTARY INFORMATION: On August 20, 2004, the Commission terminated the above-captioned investigation and issued a limited exclusion order (“the Order”) which denies entry to certain display controllers manufactured, inter alia, by respondent MStar Semiconductor, Inc. (“MStar”) and covered by claims 2, 3, 5, 6, 12, 13, 16, 17, 33-36, 38, and 39 of U.S. Patent 5,739,867. On April 24, 2006, complainant Genesis Microchip (Delaware) Inc. (“Genesis”) filed a complaint for enforcement of the Commission's Order under Commission Rule 210.75. Genesis asserted that respondent MStar had violated the Commission's Order by importing its allegedly infringing Tsunami display controllers into the United States.

On June 23, 2006, the Commission issued a “Notice of Institution of Formal Enforcement Proceeding.” See 71 Fed. Reg. 37096 (June 29, 2006). On October 25, 2006, complainant Genesis and respondent MStar filed a joint motion to terminate the enforcement proceeding on the basis of a settlement agreement pursuant to Commission Rule 210.21. See 19 CFR. 210.21. On November 6, 2006, the Commission investigative attorney filed a response in support of the motion.

On November 8, 2006, the ALJ issued an ID (Order No. 46) granting the motion. No party petitioned for review of Order No. 46.

The Commission has determined not to review Order No. 46.

The authority for the Commission's determination is contained in section 337 of the Tariff Act of 1930, as amended (19 U.S.C. 1337), and in section 210.42(h) of the Commission's Rules of Practice and Procedure (19 CFR 210.42(h)).

By order of the Commission.
Dated: December 6, 2006.
Marilyn R. Abbott,
Secretary to the Commission.

[FR Doc. E6-21008 Filed 12-8-06; 8:45 am]

BILLING CODE 7020-02-P